DEPARTMENT OF ENERGY

Federal Energy Regulatory Commission

Notice Of Staff Attendance at Southwest Power Pool Regional Entity Trustee, Regional State Committee, Members' and Board of Directors' Meetings

The Federal Energy Regulatory Commission (Commission) hereby gives notice that members of its staff may attend the meetings of the Southwest Power Pool, Inc. (SPP) Regional Entity Trustee (RE), Regional State Committee (RSC), SPP Members Committee and Board of Directors, as noted below. Their attendance is part of the Commission's ongoing outreach efforts.

All meetings will be held at the Doubletree Dallas near the Galleria, 4099 Valley View Lane, Dallas, TX 75244.

SPP RE

January 26, 2015 (8:00 a.m.-3:00 p.m.)

SPP RSC

January 26, 2015 (1:00 p.m.-5:00 p.m.)

SPP Members/Board of Directors

January 27, 2015 (8:00 a.m.-3:00 p.m.)

The discussions may address matters at issue in the following proceedings:

Docket No. EL05-19, Southwestern Public Service Company.

Docket No. ER05-168, Southwestern Public Service Company.

Docket No. ER06-274, Southwestern Public Service Company.

Docket No. ER07-1069, American Electric Power.

Docket No. ER09-35, Tallgrass Transmission, LLC.

Docket No. ER09-36, Prairie Wind Transmission, LLC.

Docket No. ER09-548, ITC Great Plains, LLC.

Docket No. EL11-34, Midcontinent Independent System Operator, Inc.

Docket No. ER11-4105, Southwest Power Pool, Inc.

Docket No. EL12-28, Xcel Energy Services Inc., et al.

Docket No. EL12-59, Golden Spread Electric Cooperative, Inc.

Docket No. EL12-60, Southwest Power Pool, Inc., et al.

Docket No. ER12-480, Midcontinent Independent System Operator, Inc.

Docket No. ER12-1586, Southwest Power Pool, Inc.

Docket No. ER13-366, Southwest Power Pool, Inc.

Docket No. ER13-367, Southwest Power Pool, Inc.

Docket No. ER13-1748, Southwest Power Pool, Inc.

Docket No. ER13-1864, Southwest Power Pool, Inc.

Docket No. EL14-21, Southwest Power Pool, Inc.

Docket No. EL14-30, Midcontinent Independent System Operator, Inc.

Docket No. EL14-49, Southwest Power Pool, Inc.

Docket No. EL14-65, Southwest Power Pool, Inc.

Docket No. ER14-67, Southwest Power Pool, Inc.

Docket No. ER14-781, Southwest Power Pool, Inc.

Docket No. ER14-1174, Southwest Power Pool, Inc.

Docket No. ER14-1993, Southwest Power Pool, Inc.

Docket No. ER14-2081, Southwest Power Pool, Inc.

Docket No. ER14-2363, Southwestern Public Service Company.

Docket No. ER14-2399, Southwest Power Pool, Inc.

Docket No. ER14-2445, Midcontinent Independent System Operator, Inc.

Docket No. ER14-2553, Southwest Power Pool, Inc.

Docket No. ER14-2570, Southwest Power Pool, Inc.

Docket No. ER14-2739, Southwest Power Pool, Inc.

Docket No. ER14-2753, Southwest Power Pool, Inc.

Docket No. ER14-2850, Southwest Power Pool, Inc.

Docket No. ER14-2851, Southwest Power Pool, Inc.

Docket No. ER14-2887, Southwest Power Pool, Inc.

Docket No. ER14-2891, Southwest Power Pool, Inc.

Docket No. ER14-2910, Southwest Power Pool, Inc.

Docket No. ER15-45, Southwest Power Pool, Inc.

Docket No. ER15-329, Golden Spread Electric Cooperative, Inc.

Docket No. ER15-492, Southwest Power Pool, Inc.

Docket No. ER15-534, Southwest Power Pool, Inc.

Docket No. ER15-551, Southwest Power Pool, Inc.

Docket No. ER15-552, Southwest Power Pool, Inc.

Docket No. ER15-532, Southwest Power Pool, Inc.

Docket No. ER15-561, Southwestern Public Service Company.

Docket No. ER15-562, Southwestern Public Service Company.

Docket No. ER15-568, Southwest Power Pool, Inc.

Docket No. ER15-569, Southwest Power Pool, Inc.

Docket No. ER15-570, Southwest Power Pool, Inc.

Docket No. ER15-571, Southwest Power Pool, Inc.

Docket No. ER15-576, Southwest Power Pool, Inc.

Docket No. ER15-579, Southwest Power Pool, Inc.

Docket No. ER15-599, Southwest Power Pool, Inc.

Docket No. ER15-603, Southwest Power Pool, Inc.

Docket No. ER15-617, Southwest Power Pool, Inc.

Docket No. ER15-627, Golden Spread Electric Cooperative, Inc.

Docket No. ER15-630, Southwest Power Pool, Inc.

Docket No. ER15-633, Southwest Power Pool, Inc.

Docket No. ER15-673, Southwest Power Pool, Inc.

Docket No. ER15-692, Southwest Power Pool, Inc.

Docket No. ER15-752, Southwestern Public Service Company.

Docket No. ER15-763, Southwest Power Pool, Inc.

Docket No. ER15-774, Southwest Power Pool, Inc.

Docket No. ER15-787, Southwest Power Pool, Inc.

Docket No. ER15-788, Southwest Power Pool, Inc.

These meetings are open to the public.

For more information, contact Patrick Clarey, Office of Energy Market Regulation, Federal Energy Regulatory Commission at (317) 249-5937 or patrick.clarey@ferc.gov.

Dated: January 13, 2015.
Kimberly D. Bose,
Secretary.

[FR Doc. 2015-00732 Filed 1-16-15; 8:45 am]

BILLING CODE P